DEPARTMENT OF COMMERCE

International Trade Administration

[A-433-813, A-427-830]

Strontium Chromate From Austria and France: Continuation of Antidumping Duty Orders

AGENCY: Enforcement and Compliance, International Trade Administration, Department of Commerce.

SUMMARY: As a result of the determinations by the U.S. Department of Commerce (Commerce) and the U.S. International Trade Commission (ITC) that revocation of the antidumping duty (AD) orders on strontium chromate from Austria and France would likely lead to the continuation or recurrence of dumping, and material injury to an industry in the United States, Commerce is publishing a notice of continuation of these AD orders.

DATES: Applicable April 10, 2025.

FOR FURTHER INFORMATION CONTACT: Ann Heilman-Dahl, AD/CVD Operations, Trade Agreements Policy and Negotiations, Enforcement and Compliance, International Trade Administration, U.S. Department of Commerce, 1401 Constitution Avenue NW, Washington, DC 20230; telephone: (202) 482-0705.

SUPPLEMENTARY INFORMATION:

Background

On November 27, 2019, Commerce published in the Federal Register the AD orders on strontium chromate from Austria and France.¹ On October 1, 2024, the ITC instituted,² and Commerce initiated,³ the first sunset review of the Orders, pursuant to section 751(c) of the Tariff Act of 1930, as amended (the Act). As a result of its reviews, Commerce determined that revocation of the Orders would likely lead to the continuation or recurrence of dumping, and therefore, notified the ITC of the magnitude of the margins of dumping likely to prevail should the Orders be revoked.⁴

¹ See Strontium Chromate From Austria and France: Antidumping Duty Orders, 84 FR 65349 (November 27, 2019) (Orders).

² See Strontium Chromate From Austria and France; Institution of Five-Year Reviews, 89 FR 79947 (October 1, 2024).

³ See Initiation of Five-Year (Sunset) Reviews, 89 FR 79892 (October 1, 2024).

⁴ See Strontium Chromate From Austria and France: Final Results of the First Expedited Sunset Reviews of the Antidumping Duty Orders, 90 FR 8182 (January 27, 2025), and accompanying Issues and Decision Memorandum (IDM).

On April 10, 2025, the ITC published its determination, pursuant to sections 751(c) of the Act, that revocation of the Orders would likely lead to continuation or recurrence of material injury to an industry in the United States within a reasonably foreseeable time.⁵

⁵ See Strontium Chromate from Austria and France, 90 FR 15366 (April 10, 2025) (ITC Final Determination).

Scope of the Orders

The merchandise covered by these Orders is strontium chromate, regardless of form (including but not limited to, powder sometimes known as granular), dispersions (sometimes known as paste), or in any solution). The chemical formula for strontium chromate is SrCrO4 and the Chemical Abstracts Service (CAS) registry number is 7789-06-2.

Strontium chromate that has been blended with another product or products is included in the scope if the resulting mix contains 15 percent or more of strontium chromate by total formula weight. Products with which strontium chromate may be blended include, but are not limited to, water and solvents such as Aromatic 100 Methyl Amyl Ketone (MAK)/2-Heptanone, Acetone, Glycol Ether EB, Naphtha Leicht, and Xylene. Subject merchandise includes strontium chromate that has been processed in a third country into a product that otherwise would be within the scope of these Orders if processed in the country of manufacture of the in-scope strontium chromate.

The merchandise subject to these Orders is currently classified in the Harmonized Tariff Schedule of the United States (HTSUS) under subheading 2841.50.9100. Subject merchandise may also enter under HTSUS subheading 3212.90.0050. While the HTSUS subheadings and CAS registry number are provided for convenience and customs purposes, the written description of the scope is these Orders is dispositive.

Continuation of the Orders

As a result of the determinations by Commerce and the ITC that revocation of the Orders would likely lead to continuation or recurrence of dumping, and material injury to an industry in the United States, pursuant to section 751(d)(2) of the Act, Commerce hereby orders the continuation of the Orders. U.S. Customs and Border Protection will continue to collect AD cash deposits at the rates in effect at the time of entry for all imports of subject merchandise.

The effective date of the continuation of the Orders will be April 10, 2025.⁶ Pursuant to section 751(c)(2) of the Act and 19 CFR 351.218(c)(2), Commerce intends to initiate the next five-year reviews of the Orders not later than 30 days prior to fifth anniversary of the date of the last determination by the ITC.

⁶ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: April 10, 2025.
Christopher Abbott,
Deputy Assistant Secretary for Policy and Negotiations, performing the non-exclusive functions and duties of the Assistant Secretary for Enforcement and Compliance.

[FR Doc. 2025-06447 Filed 4-15-25; 8:45 am]

BILLING CODE 3510-DS-P